DEPARTMENT OF HEALTH AND HUMAN SERVICES

Health Resources and Services Administration

HRSA-03-101 Fiscal Year 2003 Competitive Application Cycle for the Comprehensive Geriatrics Education Program (CGEP)

AGENCY: Health Resources and Services Administration, HHS.

ACTION: Notice.

SUMMARY: The Health Resources and Services Administration (HRSA) announces that applications will be accepted for the Comprehensive Geriatrics Education Program for Fiscal Year 2003.

Authorizing legislation: These applications are solicited under the authority of Title VIII, Section 855 of the Public Health Service (PHS) Act, as amended.

Purpose: Grants will be awarded to eligible entities for programs that—Provide training to individuals who will provide geriatric care for the elderly by enhancing the knowledge, skills, and leadership potential of registered nurses (RN) providing care to older adults in a variety of settings. Projects must demonstrate that the preparation of RNs benefits licensed practical nurses (LPN) and certified nurse assistants (CNA). Each project must describe the program for RNs and the specific activities designed to develop and strengthen the skills of LPNs and CNAs to promote quality care for the geriatric population.

Statutory matching or cost sharing requirement: None.

Eligible applicants: The following are eligible entities: Schools of nursing, academic health centers, health care facilities, partnerships of a school and a health care facility, partnerships of a program leading to CNA certification and a health care facility, and appropriate public or private entities.

Funding preference: As provided in Section 805 of the Public Health Service Act, a funding preference will be applied to approved applications with projects that will substantially benefit rural or underserved populations, or help meet public health nursing needs in State or local health departments. This preference will be applied to applications that rank above the 20th percentile of applications recommended for approval.

Administrative special consideration: Special consideration will be given to applicants that propose collaborative approaches for increasing the number of students in rural and underserved areas who can access educational opportunities through the use of electronic distance learning methodologies.

Review criteria: Applications will be reviewed by a panel of peer reviewers using the following criteria:

(a) A clearly stated project purpose;

(b) A documented need for the proposed project;

(c) The potential effectiveness of the proposed project;

(d) A clearly articulated project plan including evaluation of project objectives;

(e) A plan for addressing diversity and cultural competence;

(f) A comprehensive plan for project management;

(g) The reasonableness of the budget and fiscal plan;

(h) The presence of established and/or planned linkages with relevant entities.

Estimated amount of available funds: It is estimated that $3 million will be available in fiscal year 2003.

Estimated number of awards: This is a new program; the estimated number of awards may range from 12-30 for fiscal year 2003.

Estimated or average size of each award: This is a new grant program; the estimated costs are expected to range from $75,000 to $200,000.

Estimated project period: Applications may be submitted for 2 years and ten months. The first budget period is September 1, 2003-June 30, 2004; the second and third budget periods are July 1, 2004—June 30, 2005 and July 1, 2005—June 30, 2006 respectively.

Application requests, availability, dates and addresses: Applicants for this program are encouraged to notify HRSA, Division of Nursing of their intent to apply. Notification can be made in one of three ways: Phone, e-mail or mail Dr. Patricia Calico of your intent. Telephone (301) 443-5486; e-mail pcalico@hrsa.gov; mail: Division of Nursing, Bureau of Health Professions, HRSA, Parklawn Building, Room 9-36, 5600 Fishers Lane, Rockville MD 20857. Application materials will be available for downloading via the web at http://bhpr.hrsa.gov/grants on May 28, 2003. Applicants may also request a hardcopy of the application material by contacting the HRSA Grants Application Center, 901 Russell Avenue, Suite 450, Gaithersburg, Maryland, 20879, by calling at 1-877-477-2123, or by Fax at 1-877-477-2345. In order to be considered for competition, hard copy applications must be postmarked by the due date of July 7, 2003. Applicants should request a legibly dated U.S. Postal postmark or obtain a legibly dated receipt from a commercial carrier or U.S. Postal service. Private metered postmarks shall not be acceptable as proof of timely mailing. An application receipt will be provided. Applications submitted after the deadline date will be returned to the applicant and not processed. Applications may not be submitted electronically, at this time. Applicants should note that HRSA anticipates accepting grant applications online in the last quarter of the Fiscal Year (July through September). Please refer to the HRSA grants schedule at http://www.hrsa.gov/grants.htm for more information.

Projected award date: September 1, 2003.

FOR FURTHER INFORMATION CONTACT: Patricia Calico, Division of Nursing, Bureau of Health Professions, HRSA, Room 9-36, Parklawn Building, 5600 Fishers Lane, Rockville, Maryland 20857. Central telephone is (301) 443-6333. E-mail: pcalico@hrsa.gov.

Paperwork Reduction Act

The Application for the Comprehensive Geriatrics Education Grant Program has been approved by the Office of Management and Budget (OMB) under the Paperwork Reduction Act. The OMB clearance number is 0915-0060.

The program is not subject to the provision of Executive Order 12372, Intergovernmental Review of Federal Programs (as implemented through 45 CFR part 100).

Dated: May 16, 2003.
Elizabeth M. Duke,
Administrator.

[FR Doc. 03-13225 Filed 5-27-03; 8:45 am]

BILLING CODE 4165-15-P